DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program is general, contact the Clerk, United States Court of Federal Claims, 717 Madison Place, NW., Washington, DC 20005, (202) 357-6400. For information on HRSA's role in the Program, contact the Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated his responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on October 1, 2006, through December 31, 2006.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Vaccine Injury Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading For Further Information Contact), with a copy to HRSA addressed to Director, Division of Vaccine Injury Compensation Program, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

List of Petitions

1. Jon Rooney, Bath, Maine, Court of Federal Claims Number 06-0684V.

2. Haleh Niazmand on behalf of Keyon Ellis, Cedar Rapids, Iowa, Court of Federal Claims Number 06-0692V.

3. Erich Fortenberry on behalf of Nahaley Fortenberry, Lawton, Oklahoma, Court of Federal Claims Number 06-0693V.

4. Roberta and Robert Schoeneman on behalf of Nicole Marie Schoeneman, Stony Brook, New York, Court of Federal Claims Number 06-0703V.

5. Jane Daus, Monrovia, Maryland, Court of Federal Claims Number 06-0705V.

6. Wayne Pestka on behalf of Kelsey Lynn Short, Deceased, Waconia, Minnesota, Court of Federal Claims Number 06-0708V.

7. Juanita Coleman, Warren, Michigan, Court of Federal Claims Number 06-0710V.

8. Nancy Westermann, Springfield, Massachusetts, Court of Federal Claims Number 06-0711V.

9. Paige Ingle-Pang, Birmingham, Alabama, Court of Federal Claims Number 06-0713V.

10. Gary Mericle, Jacksonville, Florida, Court of Federal Claims Number 06-0719V.

11. Christopher Black, Chattanooga, Tennessee, Court of Federal Claims Number 06-0720V.

12. Marie Elena Navarro and Patrick James Furman on behalf of Celia Dorothy Furman, Deceased, Plattsburgh, New York, Court of Federal Claims Number 06-0722V.

13. Dean Dayton, South Ogden, Utah, Court of Federal Claims Number 06-0724V.

14. Esfandiar Santini and Laurie Omidvar on behalf of Aydien Cliff Omidvar, Oceanside, California, Court of Federal Claims Number 06-0725V.

15. Thomas Bigelow, Jr., Grand Rapids, Michigan, Court of Federal Claims Number 06-0727V.

16. Elizabeth and Jeffrey Wilkins on behalf of James Wilkins, Minneapolis, Minnesota, Court of Federal Claims Number 06-0728V.

17. Ruth and Richard DeMars on behalf of Anna DeMars, Portage, Michigan, Court of Federal Claims Number 06-0729V.

18. Carrie and Matthew Nance on behalf of Katherine Nance, North Canton, Ohio, Court of Federal Claims Number 06-0730V.

19. Michelle Robinson, Columbia, South Carolina, Court of Federal Claims Number 06-0737V.

20. Pamela and Craig Hayes on behalf of Hailey Hayes, Beaumont, Texas, Court of Federal Claims Number 06-0738V.

21. Wanda and Marty Wright on behalf of Alicia Hendrick, West Union, Iowa, Court of Federal Claims Number 06-0750V.

22. Tara and Bruce Miller on behalf of William Miller, St. Cloud, Minnesota, Court of Federal Claims Number 06-0753V.

23. Anne Carow on behalf of Anne Carow, Austin, Texas, Court of Federal Claims Number 06-0754V.

24. William Walker, Binghampton, New York, Court of Federal Claims Number 06-0756V.

25. Robert Lauder on behalf of Krista Lauder, Deceased, Pittsburgh, Pennsylvania, Court of Federal Claims Number 06-0758V.

26. Noel Schneider on behalf of Spencer Schneider, Somers Point, New Jersey, Court of Federal Claims Number 06-0759V.

27. Natalia Glaser on behalf of Marius Glaser, Boston, Massachusetts, Court of Federal Claims Number 06-0764V.

28. Christine and Gregory Pifer on behalf of Garrett Pifer, Deceased, Tampa, Florida, Court of Federal Claims Number 06-0765V.

29. Janice Crabtree and Jeffrey Ambroziak on behalf of Colby Ambroziak, Boston, Massachusetts, Court of Federal Claims Number 06-0767V.

30. Valerie and Lawrence Parker on behalf of Benjamin Parker, Sarasota, Florida, Court of Federal Claims Number 06-0768V.

31. Charles Abendroth, San Jose, California, Court of Federal Claims Number 06-0769V.

32. Courtney Grooms on behalf of Ayon Conway, Deceased, Columbia, South Carolina Court of Federal Claims Number 06-0773V.

33. Brigitte Mueller, Beverly Hills, California, Court of Federal Claims Number 06-0775V.

34. Earl Stewart, Santa Barbara, California, Court of Federal Claims Number 06-0777V.

35. Brooke and John Potthast on behalf of James Sommerville Potthast, Arlington, Virginia, Court of Federal Claims Number 06-0782V.

36. Vache and Naira Karapetian on behalf of Thomas Karapetian, Torrance, California, Court of Federal Claims Number 06-0783V.

37. Elizabeth Hanley, Independence, Kansas, Court of Federal Claims Number 06-0784V.

38. Donald Patterson, Marietta, Georgia, Court of Federal Claims Number 06-0785V.

39. Alison Reddy and David Abel on behalf of Asher Abel, Portland, Oregon, Court of Federal Claims Number 06-0788V.

40. Linda Garrett, Zanesville, Ohio, Court of Federal Claims Number 06-0790V.

41. David Martin, Clover, South Carolina, Court of Federal Claims Number 06-0793V.

42. Mary and Hugh Simpson on behalf of Mary Simpson, Baltimore, Maryland, Court of Federal Claims Number 06-0794V.

43. Janice and Robert Bevill on behalf of Victoria Bevill, Merrimack, New Hampshire, Court of Federal Claims Number 06-0795V.

44. Janice and Robert Bevill on behalf of Christina Bevil, Merrimack, New Hampshire, Court of Federal Claims Number 06-0808V.

45. Janice and Robert Bevill on behalf of Robert Christopher Bevill, Merrimack, New Hampshire, Court of Federal Claims Number 06-0809V.

46. Angela Jaegers on behalf of Brittany Cordes, Cleveland, Ohio, Court of Federal Claims Number 06-0819V.

47. Robert Pereira, Anchorage, Alaska, Court of Federal Claims Number 06-0820V.

48. Stephanie and Ralph White on behalf of Averie Elaine White, Jacksonville, Florida, Court of Federal Claims Number 06-0821V.

49. Michelle and Leo Wentz on behalf of Lincoln Wentz, Mansfield, Texas, Court of Federal Claims Number 06-0824V.

50. Carol Jakes on behalf of Dreyton Jakes, Tracy, California, Court of Federal Claims Number 06-0831V.

51. Lesli and Michael Ridgway on behalf of Max Ridgway, Bedford, Texas, Court of Federal Claims Number 06-0834V.

52. Nancy Hughes and Martin Grabstein on behalf of Matthew Grabstein, Lake Success, New York, Court of Federal Claims Number 06-0836V.

53. Debra and Stephen Shockley on behalf of Stephen A.L. Shockley, Lake Success, New York, Court of Federal Claims Number 06-0839V.

54. Lynna Teller on behalf of Naiya Namoki, Chinle, Arizona, Court of Federal Claims Number 06-0840V.

55. Mary Margaret and Justin Cain on behalf of Joshua Andrew Cain, Babson Park, Florida, Court of Federal Claims Number 06-0841V.

56. Mary Margaret and Justin Cain on behalf of Elijah Luke Cain, Babson Park, Florida, Court of Federal Claims Number 06-0842V.

57. Sharon and Randall Raybuck on behalf of Malachi Raybuck, Alliance, Ohio, Court of Federal Claims Number 06-0846V.

58. Sherry Lerwick on behalf of Braden Lerwick, Okinawa, Japan, XX, Court of Federal Claims Number 06-0847V.

59. Abraham Barron, Topeka, Kansas, Court of Federal Claims Number 06-0855V.

60. Else and David Tennessen on behalf of Zachary David Tennessen, Lexington, South Carolina, Court of Federal Claims Number 06-0862V.

61. Valerie and Justin Bell on behalf of Justin Jay Garza, Cookeville, Tennessee, Court of Federal Claims Number 06-0863V.

62. Karen and Timothy Barnette on behalf of Claire Barnette, Southhaven, Mississippi, Court of Federal Claims Number 06-0868V.

63. Cindy Needham and John Ordille on behalf of Lucas Ordille, Absecon, New Jersey, Court of Federal Claims Number 06-0869V.

64. Jeanette O'Dell on behalf of Trent O'Dell, Stone Mountain, Georgia, Court of Federal Claims Number 06-0870V.

65. Lisa and Todd Rudley on behalf of Max Rudley, Lake Success, New York, Court of Federal Claims Number 06-0878V.

66. Kathy Leddick, Troy, Michigan, Court of Federal Claims Number 06-0890V.

67. Elizabeth Snow, LaGrange, Indiana, Court of Federal Claims Number 06-0895V.

68. Karl Sackinger on behalf of Gabriel Sackinger, Thousand Oaks, California, Court of Federal Claims Number 06-0902V.

69. Jody and Larry Wright on behalf of Lora Wright, Springfield, Missouri, Court of Federal Claims Number 06-0906V.

70. Amy and Thomas Wilhelm on behalf of Reese Wilhelm, Lake Success, New York, Court of Federal Claims Number 06-0927V.

Dated: April 6, 2007.
Elizabeth M. Duke,
Administrator.

[FR Doc. E7-6984 Filed 4-12-07; 8:45 am]

BILLING CODE 4165-15-P